NATIONAL AERONAUTICS AND SPACE ADMINISTRATION

[Notice (06-058)]

NASA Advisory Council; Science Committee; Heliophysics Subcommittee; Meeting

AGENCY: National Aeronautics and Space Administration.

ACTION: Notice of meeting.

SUMMARY: The National Aeronautics and Space Administration (NASA) announces a meeting of the Heliophysics Subcommittee of the NASA Advisory Council (NAC). This Subcommittee reports to the Science Committee of the NAC. The Meeting will be held for the purpose of soliciting from the scientific community and other persons scientific and technical information relevant to program planning.

DATES: Wednesday, September 13, 2006, 8:30 a.m. to 5:30 p.m., Thursday, September 14, 8:30 a.m. to 5:30 p.m., and Friday, September 15, 2006, 8:30 a.m. to noon, Eastern Daylight Time.

ADDRESSES: L'Enfant Plaza Hotel, 480 L'Enfant Plaza, SW., Washington, DC 20024.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Input to NASA Science Plan

—Response and Comments on ESMD Lunar Science Themes and Objectives

—Planning for Spring 2007 Lunar Science Workshop

—Heliophysics Division Overview and Program Status

The meeting will be open to the public up to the seating capacity of the rooms. Findings and recommendations developed by the Subcommittee during its meeting will be submitted to the Science Committee of the NAC.

It is imperative that the meeting be held on these dates to accommodate the scheduling priorities of the key participants. Attendees will be requested to sign a visitor's register.

Michael F. O'Brien,
Assistant Administrator, Office of External Relations, National Aeronautics and Space Administration.

[FR Doc. E6-13792 Filed 8-21-06; 8:45 am]

BILLING CODE 7510-13-P